DEPARTMENT OF JUSTICE

Notice of Lodging of Proposed Consent Decree Under the Oil Pollution Act

On June 1, 2017, the Department of Justice lodged a proposed Consent Decree (“Consent Decree”) with the United States District Court for the District of Puerto Rico in the lawsuit entitled United States and Commonwealth of Puerto Rico v. Port Stewart GmbH&Co. Kg of Germany, Civil Action No. 3:17-cv-01742.

In a Complaint, the United States, on behalf of the Department of Commerce, National Oceanic and Atmospheric Association (“NOAA”), and the Commonwealth of Puerto Rico, on behalf of the Puerto Rico Department of Natural and Environmental Resources (“DNER”), seek to recover damages for the injury to, destruction of, loss of, or loss of use of natural resources under the Oil Pollution Act, 33 U.S.C. 2701, et seq. The Complaint alleges that on October 27, 2009, Port Stewart GmbH&Co. Kg of Germany (the “Defendant”), caused damage to a coral reef habitat on the southeast side of Puerto Rico near the entrance to Yabucoa Channel in the Caribbean Sea due to the grounding of the T/V Port Stewart, an oil tanker that it owned and operated. The proposed Consent Decree in this case requires that Defendant pay a total of $550,000 for the damage, which includes $412,000 to restore injured coral reefs in the area, and $128,000 in reimbursement of NOAA costs and $10,000 in reimbursement of DNER costs in assessing the damage.

The publication of this notice opens a period for public comment on the proposed Consent Decree. Comments should be addressed to the Assistant Attorney General, Environment and Natural Resources Division, and should refer to United States and Commonwealth of Puerto Rico v. Port Stewart GmbH&Co. Kg of Germany, D.J. Ref. No. 90-5-1-1-11557. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed Consent Decree may be examined and downloaded at this Justice Department Web site: https://www.justice.gov/enrd/consent-decrees. We will provide a paper copy of the proposed Consent Decree upon written request and payment of reproduction costs. Please mail your request and payment to: Consent Decree Library, U.S. DOJ—ENRD, P.O. Box 7611, Washington, DC 20044-7611.

Please enclose a check or money order for $5.50 (25 cents per page reproduction cost), payable to the United States Treasury.

Robert E. Maher, Jr.,
Assistant Chief, Environmental Enforcement Section, Environment & Natural Resources Division.

[FR Doc. 2017-11783 Filed 6-6-17; 8:45 am]

BILLING CODE 4410-15-P